COMMISSION ON CIVIL RIGHTS

Notice of Public Meeting of the New York Advisory Committee; Correction

AGENCY: Commission on Civil Rights.

ACTION: Notice; revision to meeting link & meeting ID.

SUMMARY: The Commission on Civil Rights published a notice in the Federal Register on Tuesday, January 10, 2023, concerning a meeting of the New York Advisory Committee. The meeting link and meeting ID have since been updated.

FOR FURTHER INFORMATION CONTACT: Mallory Trachtenberg, mtrachtenberg@usccr.gov.

Correction

In the Federal Register on Tuesday, January 10, 2023, in FR Document Number 2023-00222, on page 1348, third column, correct the meeting link to: https://tinyurl.com/ut64pr94; correct the meeting ID to: 161 108 2054; correct the phone number to: (833) 435-1820.

Dated: January 10, 2023.
David Mussatt,
Supervisory Chief, Regional Programs Unit.

[FR Doc. 2023-00609 Filed 1-12-23; 8:45 am]

BILLING CODE P